DEPARTMENT OF LABOR

Employment and Training Administration

[TA-W-51,727]

Harriet & Henderson Yarns, Inc., Harriet #1 Plant, Henderson, NC; Notice of Termination of Investigation

Pursuant to section 221 of the Trade Act of 1974, as amended, an investigation was initiated on May 9, 2003, in response to a worker petition filed by a company official on behalf of workers at Harriet & Henderson Yarns, Inc., Harriet #1 Plant, Henderson, North Carolina.

The petitioning group of workers is covered by an earlier petition filed on March 10, 2003 (TA-W-51,470), that is the subject of an ongoing investigation for which a determination has not yet been issued. Further investigation in this case would duplicate efforts and serve no purpose; therefore the investigation under this petition has been terminated.

Signed in Washington, DC, this 15th day of May, 2003.
Richard Church,
Certifying Officer, Division of Trade Adjustment Assistance.

[FR Doc. 03-13807 Filed 6-2-03; 8:45 am]

BILLING CODE 4510-30-P